CORPORATION FOR NATIONAL AND COMMUNITY SERVICE

Availability of Funds for National Providers of Training and Technical Assistance to Corporation for National and Community Service Programs

AGENCY: Corporation for National and Community Service.

ACTION: Notice of availability of funds.

SUMMARY: The Corporation for National and Community Service (Corporation) announces the availability of funds for organizations selected under this Notice to provide training and technical assistance to grantees and subgrantees of the Corporation. The Corporation intends to enter into cooperative agreements of up to three years, beginning on or about July 1, 2001. The funds available under this Notice will support the initial phase of each agreement (generally the first year's budget), with additional funding contingent upon need, quality of service, and availability of appropriations for this purpose. Training and technical assistance will be in the following areas, with the amount of initial funding noted:

1. AmeriCorps Member Development and Management (up to $350,000)

2. AmeriCorps*VISTA National Integrated Training Program for Field Supervisors, Trainees and Members (up to $2,700,000)

3. Human Relations and Diversity (up to $400,000)

4. Civic Engagement (up to $500,000)

5. Education and Out of School Time (up to $1,000,000)

6. Environmental On-line Communities (up to $100,000)

7. Financial Management (up to $700,000)

8. Multi-State Training and Technical Assistance Cooperatives (up to $300,000)

9. National Service Resource Center (up to $500,000)

10. Sustainability (up to $500,000)

11. Web-based Effective Practices Information Center—EpiCenter (up to $250,000)

The award amounts are approximate and for the first year only and may change depending upon the availability of appropriations and the nature and scope of activities to be supported. An organization may apply to provide services in more than one category. However, a separate application is needed for each category listed above.

Note: This is a notice for selection of organizations to provide training and technical assistance to national service grantees. This is not a notice for program grant proposals.

DATES: Proposals must be received by the Corporation by 3:00 p.m. Eastern time on April 30, 2001.

ADDRESSES: Submit proposals to the Corporation for National and Community Service, 1201 New York Avenue, NW., Washington, DC 20525, Attention: Cathy Harrison, Room 9810.

FOR FURTHER INFORMATION CONTACT: Jim Ekstrom or Margie Legowski at the Corporation for National and Community Service, (202) 606-5000, ext. 414, TTY (202) 565-2799; e-mail jekstrom@cns.gov or mlegowsk@cns.gov. This Notice is available on the Corporation's web site, http://www.nationalservice.org/whatshot/notices/. Upon request, this information will be made available in alternate formats for people with disabilities.

SUPPLEMENTARY INFORMATION:

I. Background

The Corporation for National and Community Service was established in 1993 to engage Americans of all ages and backgrounds in service to their communities. The Corporation's national and community service programs provide opportunities for participants to serve full-time and part-time, with or without stipend, as individuals or as part of a team. AmeriCorps*State, National, VISTA, and National Civilian Community Corps programs engage thousands of Americans on a full, or part-time basis, at over 1,000 locations to help communities meet their toughest challenges. Learn and Serve America integrates service into the academic life or experiences of nearly one million youth from kindergarten through higher education in all 50 states. The National Senior Service Corps uses the skills, talents and experience of over 500,000 older Americans to help make communities stronger, safer, healthier and smarter.

AmeriCorps*State and AmeriCorps*National programs, which involve over 40,000 Americans each year in results-driven community service, are grant programs managed by: (1) Governor-appointed state commissions (see “Glossary of Terms”) that select and oversee programs operated by local organizations; (2) national non-profit organizations that act as parent organizations (see “Glossary of Terms”) for operating sites across the country; (3) Indian tribes; or (4) U.S. Territories.

Learn and Serve America provides service-learning opportunities for approximately 1.2 million youth and students in 2,500 projects annually through grants to state education agencies (see “Glossary of Terms”), Indian Tribes and U.S.Territories, nonprofit agencies, community-based organizations, and higher education institutions and organizations. The National Senior Service Corps awards grants to nearly 1,300 local organizations to operate the Retired and Senior Volunteer (RSVP), Foster Grandparent (FGP) and Senior Companion (SCP) programs in their communities.

In addition, the Corporation supports the AmeriCorps*VISTA (Volunteers in Service to America) and AmeriCorps*NCCC (National Civilian Community Corps) programs. Annually more than 6,000 AmeriCorps*VISTA members develop grassroots programs, mobilize resources and build capacity for service across the nation. AmeriCorps*NCCC provides the opportunity for approximately 1,000 individuals between the ages of 18 and 24 to participate each year in ten-month residential programs located mainly on inactive military bases. For additional information on the national service programs supported by the Corporation, go to http://www.nationalservice.org.

Training and technical assistance for Corporation programs takes place at local, state, regional and national levels, with most occurring at the local and state levels. To ensure equity and to promote quality, the Corporation funds a series of national training and technical assistance agreements. Most requests for assistance to national providers come through state commissions, state education agencies, state offices or parent organizations. See “Glossary of Terms” in Section VI for additional details.

II. Eligibility

State and local government entities, non-profit organizations, institutions of higher education, Indian tribes, commercial entities are eligible to apply. Pursuant to the Lobbying Disclosure Act of 1995, an organization described in section 501(c)(4) of the Internal Revenue Code of 1986, 26 U.S C. 501(c)(4), which engages in lobbying, is not eligible to apply. Organizations that operate or intend to operate Corporation-supported programs are eligible.

We will consider proposals from single applicants, applicants in partnership and applicants proposing other approaches to meeting the requirement that we consider to be responsive to this Notice.

Organizations may apply to provide training and technical assistance in partnership with organizations seeking other Corporation funds. Based on previous training and technical assistance competitions and our estimate of potential applicants, we expect fewer than ten applications to be submitted in each area.

III. Conditions

A. Legal Authority

Section 198 of the National and Community Service Act of 1990, as amended, 42 U.S.C. 12653 authorizes the Corporation to provide, directly or through contracts or cooperative agreements, training and technical assistance in support of activities under the national service laws. Section 125 of the National and Community Service Act and titles I and II of the Domestic Volunteer Service Act provide additional authority.

B. Cooperative Agreements

Awards made under this Notice will be in the form of cooperative agreements. Administration of cooperative agreements is controlled by Corporation regulations, 45 CFR Part 2541 (for agreements with state and local government agencies) and 45 CFR Part 2543 (for agreements with institutions of higher education, non-profit organizations and commercial entities). The provider must comply with reporting requirements, including submitting semi-annual financial reports and progress reports linking progress on deliverables to expenditures.

Cooperative agreements require substantial involvement on the part of the government. Substantial involvement includes frequent and regular communication with and monitoring by the Corporation's cognizant training officer.

C. Time Frame

The Corporation expects that activities assisted under the agreements awarded through this Notice will commence on or about July 1, 2001, following the conclusion of the selection and award process. The Corporation will make awards covering a period not to exceed three years. Applications must include a detailed work plan of proposed activities and a line-item budget for year one of the agreement and should note projected changes to proposed activities for years two and three of the award period. If the Corporation approves an application and enters into a multi-year award agreement, at the outset it will provide funding only for the first year of the award period. The Corporation has no obligation to provide additional funding in subsequent years. Funding for the second and third years of an award period is contingent upon satisfactory performance, the availability of funds and any other criteria established in the award agreement.

D. Use of Materials

To ensure that materials generated with Corporation funding for training and technical assistance purposes are available to the public and readily accessible to grantees and sub-grantees, the Corporation reserves a royalty-free, non-exclusive, and irrevocable right to obtain, use, reproduce, publish, or disseminate publications and materials produced under the agreement, including data, and to authorize others to do so. The provider must agree to make such publications and materials available to the national service field, as identified by the Corporation, at no cost or at the cost of reproduction. All materials developed for the Corporation must be consistent with Corporation editorial and publication guidelines and must be accessible to individuals with disabilities to the extent required by law.

IV. Scope of Training and Technical Assistance Activities To Be Supported

Providers selected under this Notice are to provide training services, training curriculum development and dissemination, materials development and ongoing technical assistance to Corporation grantees and their sub-grantees. The Corporation requires providers to integrate the deliverables and principles listed below into their service delivery.

A. Training and Technical Assistance Tasks and Delivery

1. Systems

a. Electronically track training and technical assistance requests, referrals and services provided based on guidance from the Corporation.

b. Develop a system for referring awardees to local content area experts who can provide staff, member and volunteer training.

2. Audience and Outreach

a. Respond to ongoing requests for training and technical assistance from national service grantees and sub-grantees.

b. In collaboration with training and technical assistance staff, develop and implement a plan to promote services to grantees and sub-grantees.

c. Develop and maintain a web-site of training and technical assistance resources, effective practices and e-courses in provider's area with links to national service sites, as directed by the Corporation.

d. Work with the national service grantees and sub-grantees who request assistance to identify and clarify their needs and determine an appropriate service response.

3. Training Delivery

a. Develop course and publication outlines and descriptions in collaboration with Training and Technical Assistance staff.

b. Coordinate scheduling of training delivery with the provider's training and technical assistance officer and, as appropriate, with the area manager, state commission, state education agency, and Corporation state office where each training event will be held.

c. Deliver training that is interactive, experiential, consistent with the principles of adult learning, uses web-based technology and is sensitive to program and audience diversity, skill level and learning style.

d. Submit training event dates to the National Service Resource Center for posting on its national training calendar.

e. Show how approach will ensure support for small, faith-based, and other community-based organizations.

f. Ensure that all training and technical assistance and resources including web sites are accessible to persons with disabilities as required by law to include the following:

i. Notifying potential participants that reasonable accommodations will be provided upon request;

ii. Providing reasonable accommodations when requested to do so, including provision of sign language interpreters, special assistance, and documents in alternate formats;

iii. Using accessible locations for training events;

iv. Providing training and technical assistance materials that are accessible to persons with disabilities, by using accessible technology, providing materials in alternate formats upon request, captioning videos and not using solely a non-voice-over format, and when indicating a telephone number, including a non-voice telephone alternative such as TDD or e-mail;

v. Deliver training that enhances the capacity of awardees to function independently and effectively, which includes, but is not limited to, the following:

—Using transfer-of-skills methods and train-the-trainer models in delivering services following guidelines provided by the Corporation;

—Providing structured opportunities for peer-to-peer assistance during and after all on-request and scheduled training events;

—Developing web-based courses;

—Developing and disseminating training event packets that include the training agenda, handouts and list of training event participants.

4. Peer Assistance

a. Develop and manage a peer-to-peer system that uses staff of national service programs and others affiliated with national service programs and makes use of a full range of service delivery options, e.g., phone consultations, teleconferences, videoconferences and other electronic communication; materials' development and distribution; and site visits.

b. Document system's operation, including peer selection criteria, preparation process, and assignment procedure.

c. Provide an after-action report outlining the issues addressed, actions taken, results achieved and follow-up actions required. Reports must be submitted in a timely manner with copies provided to all interested parties, including state commission staff and Corporation program officers.

5. Effective Practices

a. Research, identify, document and transmit effective tools and practices through all provider's training and technical assistance services.

b. Submit effective tools and practices in stipulated format to the Effective Practices Information Center database (EpiCenter—see “Glossary of Terms”), and, if appropriate, to the National Service-Learning Clearinghouse; encourage grantee use of same.

c. Develop and implement a dissemination plan for all materials (e.g., publications, videotapes, etc.) produced under this agreement.

6. Evaluation

a. Develop and submit a plan for evaluating the impact of training and technical assistance services, particularly the impact of training events relative to each training event's objectives and the principles and deliverables of this Notice.

b. Conduct an assessment after each training and technical assistance event.

c. Maintain records of these evaluations and provide them to the Corporation, or an authorized representative, upon request.

d. Submit aggregate evaluation summaries of training-and-technical-assistance events' evaluations as part of progress reports to the Corporation.

e. The Corporation may conduct an independent assessment of each provider's performance.

7. Reporting Requirements

The provider is responsible for submitting timely progress and financial reports during and at the conclusion of the award period to the Corporation as follows:

a. Semi-annual Progress Reports. Progress reports must be submitted semi-annually and are due October 31, 2001, for the period ending September 30, 2001, and April 30, 2002, for the period ending March 31, 2002. The provider must develop the capacity to submit this information electronically. At a minimum, progress reports must provide the information below:

i. A comparison of accomplishments with the goals and objectives for the reporting period;

ii. An annotated version of the approved budget that compares actual costs with budgeted costs by line item, and explains differences. The explanation should include, as appropriate, an analysis of cost overruns and high-cost units and a description of service requests not anticipated in the provider's original budget;

iii. A description of the services provided to include:

(a) Number of requests received by topic area and stream of service;

(b) Activity conducted to address each request (e.g., training, on-site technical assistance, phone consultation and other electronic communication, and materials development and shipment) and mode of delivery (e.g., staff member, consultant, peer and/or other provider);

(c) Number of participants in each training and technical assistance event by service stream (see “Glossary of Terms”);

(d) Client feedback on the services rendered (including the aggregate evaluation of each training event); and

(e) Problems encountered in delivering services with recommendations for correcting them.

iv. List of upcoming activities and events with dates and locations;

v. Recommended training and technical assistance focus areas as suggested by analyses of service activities and trends;

vi. Discussion of developments that hindered, or may hinder, compliance with the cooperative agreement;

vii. List of materials submitted to the National Service Resource Center and National Service-learning Clearinghouse;

viii. List of practices and supporting documentation or materials submitted to the Effective Practices Information Center database (EpiCenter).

b. Financial reports must be submitted semi-annually to include a summary of expenditures during the period. A cumulative report must be submitted on the Financial Status Report (FSR) form SF 269A.

c. Final Reports.

i. Providers completing the final year of their agreement must submit, in lieu of the last quarterly progress report, a final progress report that is cumulative over the entire award period. This final progress report is due within 90 days after the close of the agreement.

ii. Providers completing the final year of their award must submit, in lieu of the last semi-annual FSR, a final FSR that is cumulative over the entire award period. This FSR is due within 90 days after the end of the agreement.

d. Financial reports must be submitted in three (3) copies to the Office of Grants Management. Progress reports shall be submitted in three (3) copies to the Corporation's cognizant training officer of the award.

e. The provider must meet as necessary with the cognizant training officer or with other staff or consultants designated by the Corporation training official to exchange views, ideas, and information concerning T/TA. The provider must submit such special reports as may be reasonably requested by the Corporation.

8. Other Requirements

a. Assure that provider staff and consultants are fully versed in the background, approach, vocabulary, assets, needs and objectives of the Corporation and each of its program streams.

b. Participate in the planning and implementation of national provider meetings and training events as requested by the Corporation.

c. Collaborate in materials' development and training events organized by other providers or the Corporation, as requested.

d. Share effective practices with other providers through the training and technical assistance listserv, the Effective Practices Information Center database (EpiCenter) and other mechanisms such as the National Service-Learning Clearinghouse and the National Service Resource Center (see “Glossary of Terms”).

e. Creatively and effectively use technology as a cost-effective strategy for reaching large numbers of grantees and subgrantees.

B. Training and Technical Assistance Categories

The Corporation will evaluate proposals in each of the ten categories listed below. The funding ranges listed are approximate and reflect resource availability for the first year only.

1. AmeriCorps Member Development and Management (up to $350,000)

2. AmeriCorps*VISTA National Integrated Training Program for Field Supervisors, Trainees and Members (up to $2,700,000)

3. Civic Engagement (up to $500,000)

4. Education and Out of School Time (up to $1,000,000)

5. Environmental On-line Communities (up to $100,000)

6. Financial Management (up to $700,000)

7. Human Relations and Diversity (up to $400,000)

8. Multi-State Training and Technical Assistance Cooperatives (up to $300,000)

9. National Service Resource Center (up to $500,000)

10. Sustainability (up to $500,000)

11. Web-based Effective Practices Information Center—EpiCenter (up to $250,000)

Specific requirements for each category follow:

1. AmeriCorps Member Development and Management (up to $350,000)

These services are targeted to the needs of an innovative category of AmeriCorps programs referred to as the “AmeriCorps Education Award” program. Like other AmeriCorps programs, the Education Award program provides education awards to members following their successful completion of service. Unlike other AmeriCorps programs, this program does not fund living allowances for members and provides only limited administrative support to projects.

The AmeriCorps Education Award program encourages the initiation of new service models as well as the expansion of older, effective service models. Specific tasks include, but are not limited to, the following:

a. Work with at least 10 state commissions and AmeriCorps Education Award programs on their special program management needs and to support the integration of Education Award programs into the national service network.

b. Provide T/TA to program directors on the topics of: recruitment, selection, motivation and retention of members; member management and development; team-building; working with and developing community partners; multi-site program management; service-learning methodology including member orientation and reflection sessions; problem identification and collaborative solution generation; time management and day-to-day organizational skills; working with diverse members.

c. Organize at least 40 facilitated peer visits in response to requests from programs, state commissions and national direct grantees.

d. Develop, test and implement a process for AmeriCorps Education Award programs to document member activities.

e. Work with at least 10 state commissions and AmeriCorps Education Award programs on the special program management needs of Education Award programs and to support the integration of Education Award programs into the national service network.

2. AmeriCorps*VISTA National Integrated Training Program for Field Supervisors, Trainees and Members (up to $2,700,000)

This category of services addresses the pre-service and in-service training needs of the AmeriCorps*VISTA program. The provider in this category must work in collaboration with the AmeriCorps*VISTA manager of training and member services and other designated Corporation staff to design and deliver an integrated pre-service and early service training program (curricula, lesson plans, training materials, etc.) for approximately 5000 AmeriCorps*VISTA trainees and members and 1000 field supervisors that reflects the training objectives, indicators and design considerations identified during the recent AmeriCorps*VISTA training initiatives workshop (see appendix) and that increases programming impact and maximizes on-board strength.

AmeriCorps*VISTA training takes place both regionally and nationally. The provider selected for this category must design and deliver training for both regional and national training events most of which will take place during five distinct two-week training periods or windows. Training windows for calendar year 2001 include: (a) July 8-22, (b) August 12-26, and (c) November 4-18.

Specific tasks include, but are not limited to the following:

a. Observe twelve training events (two supervisors' training events, member pre-service orientations or early service training events) in each of the five Corporation clusters and one national pre-service orientation/supervisors' training. This process should take place during the July-August 2001 training period and should inform training plan development.

b. Develop in collaboration with an AmeriCorps*VISTA design team an integrated supervisors', pre-service and early service training plan that includes, at minimum, curricula, lesson plans, training materials, a training of trainers roll out and overall suggested delivery schedule (see paragraph two above) and meets the goals and objectives identified by the AmeriCorps*VISTA working group (see appendix).

The training design developed by the provider in collaboration with the AmeriCorps*VISTA design team must establish the minimum level of involvement of Corporation state staff at each training event. Corporation area managers may authorize greater state staff involvement as they deem appropriate. In some cases, state staff will play a significant role in implementing the training program and the responsibility of the provider will be reduced. The provider will need to be flexible and accommodating to different approaches to state staff involvement in training events.

The provider must ensure that each of the training components (field supervisors' training, pre-service orientation (PSO) and early service training (EST)) builds upon the former to achieve an integrated and cumulative effect.

c. Develop six regional training teams of experienced training professionals to deliver the training curricula developed above for approximately 1,000 field supervisors and 5,000 members and trainees. Preference should be given to training professionals who have experience conducting AmeriCorps* VISTA training and proposed teams must be approved by the AmeriCorps*VISTA manager of training and member services and Corporation field staff (i.e., cluster training specialists and other state staff as assigned).

The provider's pre-approved training teams should consist of a core group of quality trainers who provide all phases of training (field supervisors' training, PSO and EST) for each cluster, so that they can be attentive to training integration and the cumulative impact of training. Training teams should consist of trainers who are either from the region being serviced or whose regular travel to training events is not cost-prohibitive.

Training teams will be responsive to one or more training representative(s) for each Corporation cluster (e.g., cluster training specialist and other staff) and will ultimately report to the AmeriCorps*VISTA manager of training and member services. Being “responsive” means that the provider will collaborate closely with training specialists and those Corporation state staff who may be involved in training to ensure that the needs of the cluster and AmeriCorps*VISTA are met. Indeed, these Corporation staff should be considered part of the “training team” working as a unit to ensure the accomplishment of training objectives.

The provider's training team's point of contact for training dates, event coordination, logistics and budget at the cluster-level will be the cluster training specialist.

d. Pilot the proposed integrated training program (field supervisors' training, trainee pre-service orientation, and member early service training) in one cluster during the first quarter of FY2002 (October-December) during which a training-of-trainers could take place. Begin training for the other clusters in January-February of 2002 with full implementation in all clusters by April 1, 2002

e. Conduct the following for each of the Corporation's five clusters within a given fiscal year: (a) Five approximately 2. 5 day supervisors' training events, each for 30-50 supervisors; (b) five approximately 2. 5 day pre-service orientations, each for approximately 160 AmeriCorps*VISTA trainees; and (c) five approximately 2. 5 day early service training events, each for approximately 140 AmeriCorps*VISTA members for an approximate total of fifteen training events per cluster and seventy-five training events per year. (Note: Numbers of trainees per cluster given here are averages as numbers vary from one cluster to another and from one time of year to another. In some clusters, events may need to be broken into smaller sub-units.)

f. Conduct five approximately 2.5 day joint pre-service orientation-supervisors' training events for AmeriCorps*VISTA national projects each year, one during each training window. Each event will include approximately 150 trainees and 30 supervisors.

g. Assess quality of training and training delivery after each training window and, based on discussions with the cluster and the AmeriCorps*VISTA manager of training and member services, revise and implement a revised the training design, as requested.

h. Adapt training to accommodate cross-stream opportunities and other cluster or state needs.

i. Develop and implement a training evaluation program that surveys members at EST about the quality of preparation received at PSO and surveys them again by mail toward the end of their service about the effectiveness of PSO and EST. (This will be complemented by an independent annual evaluation survey conducted by the Corporation and an outside evaluation organization.)

j. Print, store, and ship all materials needed for AmeriCorps*VISTA training events including provider generated training materials and Corporation generated AmeriCorps*VISTA materials such as invitation packets, member handbooks, and supervisors' manuals, etc. beginning in January-February 2002. The supervisors' manual is approximately 150 pages and perfect bound and the member handbook is approximately 250 pages and perfect bound. Invitation packets include folders and approximately 30 pages of text. Materials should be printed for approximately 5000 members/trainees and 1000 field supervisors each year. Materials should also be formatted for posting on the Corporation's AmericCorps*VISTA web site.

k. Develop and implement a system for providing telephone and on-line technical assistance as follow-up to training events. Technical assistance will primarily consist of referrals to Corporation offices, other members or supervisors or to appropriate TTA providers.

3. Civic Engagement ($500,000)

In 1998 and 1999 the Corporation pilot tested two sets of training materials on citizenship development. The services in this category respond to the need to increase use of these materials by developing and delivering training for them. Tasks under this category include, but are not limited, to the following:

a. Design, pilot, disseminate and evaluate training of trainer materials around the publications “Guide to Effective Citizenship” and “By the People.”

b. Develop a 30-40 page instructor's manual that provides step-by-step guidance on developing training sessions based on the materials contained in “By the People.”

c. Provide technical assistance to programs and commissions on how to use the materials effectively including structuring and establishment of citizenship training programs.

d. Conduct member training on civic engagement (one session per month × 24 months) for a group of approximately 50 AmeriCorps programs to be identified by the Corporation.

e. Conduct training of trainers sessions on how to use the materials at the National and Community Service Conference in June 2001 in Minneapolis.

f. Provide on-line and telephone assistance and resource materials.

4. Education and Out of School Time (up to $1,000,000)

Approximately sixty-five percent of the Corporation's programs in some way address the educational success of children and youth. The services that support these programs should: (1) Build the capacity of project directors to design and implement a broad range of sustainable and high quality family, early childhood and adult literacy; math and reading tutoring; mentoring; and out of school time projects in school and community-based settings that include well-developed member and volunteer training plans, and (2) identify and disseminate effective practices in the above named project areas and project settings.

Training and materials should reflect current research of the field and the Corporation's principles of high quality national service and principles of high quality tutoring programs. Literacy training and materials should support the use of multiple reading strategies, assessment as an essential part of instruction, appropriate and effective use of a broad spectrum of literacy activities (one-on-one tutoring, read aloud, language enrichment activities, computer-assisted learning, etc.) for preschool through high school, parents as a child's first teacher and schools as partners in tutoring endeavors. Special attention should be given to developing materials and support for programs taking place in community-based settings and for out of school time programs using computers to increase academic success. When appropriate, training and materials should use a service-learning approach.

Specific tasks include, but are not limited to, the following:

a. Conduct a cross-stream needs assessment (telephone surveys, mailing, focus groups, etc.) to identify the activities and training needs of community-based out of school time math and reading tutoring programs and out of school time programs using computers to increase academic success. Findings will inform all provider training and materials' development.

b. When appropriate, incorporate a service-learning approach into training and materials.

c. Work with the representatives of state commissions, state education agencies and Corporation state offices and higher education, tribal and national direct awardees to develop, pilot and evaluate a replicable model for state-based education forums. Forums will be one to two day structured opportunities for project staff and their counterparts in a state to share best practices and to learn new skills related to managing and implementing effective tutoring, mentoring or out of school time projects. Forum model will include working with a state planning committee and strategies for identifying, selecting and preparing local trainers. Forums will be a springboard for developing ongoing state networks. Work with ten states to implement the model.

d. Develop a strategy for providing ongoing support to ten state-based peer networks (see above).

e. Respond to 15 cluster or state requests for project director training in math or reading tutoring, family or adult literacy, literacy assessment, mentoring, and out of school time for project directors in all streams of service. Training events will be one-two days in duration.

f. Develop and maintain a web site of resources for project directors engaged in adult and family literacy, math and reading tutoring, homework help, mentoring and out of school time projects, particularly those using computers to increase student learning. Web site will include a substantive section on training, electronic courses, three monographs that put research into practice, and a section on program examples or models.

g. Respond to requests for information on effective literacy, math, mentoring and out of school time etc. program design, implementation, and assessment strategies.

h. Use Corporation listservs as tools for gathering information and disseminating technical assistance and information on best practices.

i. Develop and up-link via satellite a series of three to five broadcast quality videotapes for project directors on training tutors in basic one-on-one reading tutoring strategies. Series may include material produced by the field, should be accompanied by a comprehensive tutor training manual and should be supported by a web-based training course.

5. Environmental On-line Communities (up to $100,000)

These services address the diverse technical and programmatic needs of the Corporation's environmental programs. On-line communities will inexpensively provide timely targeted information, as well as networking opportunities for the geographically dispersed programs of this sector.

Specific tasks include, but are not limited to, the following:

a. Establish, promote and maintain an interactive web site responding to the T/TA needs of environmental programs in all three of the Corporation's program streams (AmeriCorps, Learn and Serve America, and National Senior Service Corps). On-line services should include, but are not limited to, a listserv, real-time communications, and the posting of documents relevant to programs.

b. Conduct at least 10 planned web-based community events (web guest-forums, information requests, effective-practice postings, theme discussions, etc.) which provide current, relevant information to programs.

6. Financial Management (up to $700,000)

Corporation-funded programs need access to training and technical assistance information regarding their responsibilities and procedures for the management of federal funds. Sound fiscal management is critical to the effective operation of national service programs. The Corporation envisions a national network of consultants who would be easily accessible for follow-up and would have state of the art knowledge of relevant state and local law and regulations.

Specific tasks include, but are not limited to, the following:

a. Conduct at least 25 state-based workshops or workshops presented in the context of grantees' meetings.

b. Conduct at least 20 on-site technical assistance visits to state commissions, Corporation state offices, state education agencies, and tribal, national non-profit and higher education grantees and programs from all streams of service.

c. Provide telephone and on-line technical assistance.

d. Develop and maintain a network of geographically-dispersed expert resource people. Staff from Corporation-funded programs should be included in the network.

e. Develop materials to include a compilation of effective practices used in the field.

7. Human Relations and Diversity (up to $400,000)

These services respond to the need for program staff (and, through them, volunteers, members and other participants) to receive training that promotes understanding and respect among diverse groups, that provides skills for working with and managing diverse populations and that offers techniques for preventing and resolving situations where diversity and communication interfere with achieving program goals. Special attention should be given to findings of the Macro study on diversity funded by the Corporation for National Service. (Call the Corporation contact persons for a copy of “Study of Race, Class and Ethnicity, November 1997”.)

Specific tasks include, but are not limited to, the following:

a. Collaborate with state commissions, Corporation state offices, state education agencies and a representative group of tribal, national non-profit and higher education grantees in the implementation of a minimum of 20 regional training workshops of 20-25 participants each. Workshops should increase personal awareness of and competency with diversity issues. They should also enhance staff skills in developing and supporting diverse, well-functioning teams and community partnerships, as well as in diagnosing diversity challenges and facilitating discussions and training.

b. Deliver a minimum of 10 customized T/TA sessions in response to site-specific diversity issues.

c. Help state commission, Corporation state office, state education agency, tribal, national non-profit and higher education grantee staff programs enhance their ability to access and select effective diversity training.

d. Provide on-line and telephone assistance and resource materials.

8. Multi-State Organizational Development and Training Support ($300,000)

These services respond to the range of needs for program management and training assistance expressed by grantees who are seeking to improve program performance and quality. In accordance with the strategy of devolution, this category provides the opportunity for organizations to propose providing services to multiple jurisdictions, typically states or clusters, rather than on a national scope. Funding for this category will primarily be provided from Program Development Assistance and Training (PDAT) funds (see “Glossary of Terms”) as requested by the state commissions to which those funds are allocated. Awards will only be made in cases where potential users of services, such as state commissions, indicate a desire to have the award made and to provide funding. Specific tasks may include, but are not limited to, the following:

a. Provide, arrange for, or connect programs to information, training, and technical assistance in organizational development and program management based on information gathered through a needs assessment.

b. Offer training in various settings (state-based and regional) and of varying duration and complexity. Such training may be organized by the provider in response to a request or may be in the context of events organized by a state commission, other provider or the Corporation.

c. Develop materials for use in delivering training.

d. Provide technical assistance on-site, on-line, and by telephone in the form of one-time consultations and multiple interventions, as required.

e. The T/TA services offered are generally expected to address the following types of topics: board development and management; staff management; program planning and management; continuous improvement; program evaluation; volunteer, member and participant recruitment, management, support, development and retention; community partnerships and organizational collaboration; multi-site management; effective communication and public awareness; and program sustainability.

f. Coordinate peer exchanges among national service programs.

g. Organize and support affinity groups (i.e., groups of programs defined by their common focus or needs).

h. Collaborate with and broker services of other public and private providers of training and technical assistance services available at the national, state or local levels.

9. National Service Resource Center (up to $500,000)

These services respond to the need for a central repository of information and materials in the field of national service and the need for the development and distribution of new information in response to changing program needs and the need for technical assistance in technology. These services also support programs engaged in Digital Divide activities and include an assessment of Digital Divide grantees training and technical assistance needs. Specific tasks include, but are not limited to, the following:

a. Provide a toll-free assistance line for awardees to access resource center and technology technical assistance.

b. Provide reference services and referrals to national T/TA providers.

c. Maintain and expand a lending library of publications, kits, curricula, on-line courses and videos on topics relevant to national service programs, as well as copies of publications produced by other national T/TA providers and Corporation-supported programs.

d. Develop resource materials and disseminate them to grantees, as requested.

e. Conduct literature searches in response to requests for information and resources on specific issues from national service programs.

f. Publish a 2-4 page quarterly update of T/TA resources to be distributed to grantees by web or fax.

g. Update and maintain the Corporation's training resources web page including publishing a resource guide of national T/TA services and maintaining a master calendar of T/TA events.

h. Initiate and manage approximately 20-25 electronic listservs that connect Corporation programs and subgroups of Corporation-supported programs as appropriate.

i. Provide a minimum of 10 on-request training sessions for Digital Divide awardees. Training topics will be identified through a needs assessment and training will take place in collaboration with other providers.

j. Provide a minimum of 10 on-request training sessions on managing information, developing technology plans, and accessing Internet resources (including information on necessary equipment, costs and access options).

k. Provide consultation on-line and by telephone on different aspects of information management including the development and maintenance of resource libraries at the local level and topics relevant to Digital Divide programs.

l. Provide resources via the World Wide Web including a searchable database of library holdings and on-line versions of available updated print resources.

m. Develop and maintain a web page of resources for Digital Divide grantees on effective use of technology for adults and youth including information on accessing local technology resources and other topics as identified by the needs assessment (see “i” above).

10. Sustainability (up to $500,000)

These services respond to the needs of grantees from all streams of service to build larger constituencies, create more partnerships, leverage more resources, and generate additional funds as match requirements increase and Federal funds decrease. Specific tasks include, but are not limited to, the following:

a. Design training specific to the needs of Corporation-funded programs and deliver that training through state-based and regional workshops of varying duration and complexity. At minimum, the provider must conduct ten regional and 35 state-based training sessions.

b. Develop a sustainability curriculum that (1) acknowledges applicable law and Corporation policy; (2) addresses the unique challenges service programs face in sustaining local operations; and (3) offers planning and implementation strategies for accessing community resources, to include raising funds in ways consistent with Office of Management and Budget guidelines.

c. Provide coaching to grantees for problem-solving around strategic and action planning and board development related to resource development.

d. Develop materials to support T/TA activities.

e. Offer telephone and on-line technical assistance.

11. Web-Based Effective Practices Information Center—EpiCenter (up to $250,000)

In August 2000, the Corporation for National Service launched EpiCenter, a database-enabled web site, in response to a growing need to share effective program practices and knowledge across the national service network. This online database is a means to collect and disseminate ideas and information that lead to program improvement and successful outcomes for service beneficiaries, participants, institutions, and communities. Effective practices (See “Glossary of Terms”) are based on knowledge gleaned from practical experience, technical assistance efforts, and empirical research. The evolving database currently contains practices related to education, the environment, public safety, other human needs (including health and housing), service-learning, and common program management concerns (e.g., recruiting, volunteer management, partnerships, and sustainability).

Applicants will be expected to review the site in detail regarding both the conceptual framework and technical specifications. The database can be visited at www.nationalservice.org/resources/epicenter. At present, traffic on the site is low, although slowly increasing. Initial holdings in the database have increased, from 40 practices (at launch) to more than 100 (at present). We expect the database to grow substantially. Applicants may call to request current usage data from the Corporation (see section on “For Further Information Contact”). The first phase of the award will focus on building EpiCenter to maximize its content and increase user traffic. Services include maintaining the database, programming site enhancements, collecting and managing information, conducting outreach, making presentations, and developing marketing materials.

The provider will be expected to: (1) Enrich and expand the content of the database, ensuring that practices are relevant and of value and are communicated in user-friendly language; (2) build EpiCenter's presence and utility within the national service community and increase traffic to the site; (3) increase the capacity of national service practitioners to identify effective program practices and augment the volume of online submissions; and (4) maintain a web site that is responsive to emerging technologies and customer needs.

Specific tasks include, but are not limited to, the following:

a. Collect information and manage database.

(1) Provide an assessment of the feasibility of identifying and collecting effective practices (based on EpiCenter's conceptual framework) across national service stakeholders and throughout the service community at large.

(2) Identify potential sources of formal and informal knowledge on effective practices that will: (a) Augment current holdings and fill gaps in the database; (b) satisfy varied stakeholder needs; and (c) respond to emerging trends in national service.

(3) Recommend an information collection strategy that allows for the collection of effective practices across national service stakeholders and related communities of practice. Stakeholders include Corporation for National Service units, grantees and subgrantees, technical assistance providers, and service partners. Communities of practice include community-based organizations, foundations, and applied social science researchers. The collection strategy should focus on ensuring the ongoing identification, collection, organization, and exchange of effective practices through EpiCenter and the development of relationships to support this strategy. Proposals must specify a level of staffing, potential methods of information collection (including travel for on-site consultations with Corporation for National Service staff), and a timeline in support of this strategy.

(4) Populate and maintain the database based on the information collection strategy and ensure adherence to content quality standards. Prepare abstracts and summaries of effective practices, edit online submissions, classify and catalogue effective practices, locate materials, secure approvals to upload practices, obtain permission to post full-text documents and create hyperlinks. Maintain a policy and procedures manual.

(5) Provide telephone or electronic assistance to users. Respond promptly to requests for providing materials in alternate formats.

(6) Prepare and/or update, as needed, policies, procedures, guidelines, tools, and other resources, in consultation with the Corporation training official.

b. Develop systems and manage site.

i. Provide an analysis of the system hardware and software and make recommendations for improvement, including modifications and enhancements to page design, content design, and site design (including user interface, navigation, search and indexing capabilities). These recommendations must ensure that EpiCenter: (A) Meets optimal standards of web-usability within applicable e-commerce guidelines for federal web sites; and (b) is fully accessible to persons with disabilities as required by law, including applicable provisions of the Electronic and Information Technology Accessibility Standards, 36 CFR Part 1194, published in the Federal Register on December 21, 2000 (65 FR 80500).

ii. Provide technical support to maintain server and database connectivity, conduct accessibility testing, ensure optimum user response time, make web page changes, and analyze user activity. The provider must regularly provide the Corporation with an analysis of server statistics to measure system performance, operability, and site traffic. The provider must assist the Corporation in using these data to improve site usability and performance and inform the Corporation whenever a system performance issue arises.

iii. Train users. Design training and materials that will enable Corporation-funded practitioners to identify and apply effective practices to program operations and service activities, using the operational definition of effective practices in EpiCenter (see “Glossary of Terms”). Training workshops should take into account the variable technology skills of users and build upon program-specific monitoring, evaluation, and reporting tools, mechanisms, or information flows that capture effective practice information. The provider will deliver training through national, state-based, and regional workshops of varying duration and complexity. At a minimum, the provider must conduct training sessions at five national conferences, five regional conferences, and at least five program specific training sessions.

iv. Provide marketing services. Design and implement a marketing strategy and materials to increase awareness of EpiCenter and develop metrics to track its growth as a technical assistance resource.

V. Application Guidelines

A. Proposal Content and Submission

Applicants must submit one unbound, original proposal and two bound copies. Applicants may voluntarily submit two additional bound copies for a total of four copies. Proposals may not be submitted by facsimile. Proposals must include the following:

1. Cover Page

The cover page must include the name, address, phone number, fax number, e-mail address of the contact person and World Wide Web site URL (if available) of the applicant organization; the category for which the application is being submitted; a 25-50 word summary of proposed training and technical assistance activities; and, the total funding amount requested for the first year.

2. List of Activities and Materials

A one-two page list of all proposed training and technical assistance activities and materials.

3. Training and Technical Assistance Delivery Plan

A bulleted narrative of no more than 20 double-spaced, single-sided, typed pages in no smaller than 12-point font that includes:

a. The applicant's proposed strategy and rationale for providing training and technical assistance to a diverse multi-program national service audience for year one with proposed changes (if any) for years two and three. The applicant should use the specific deliverables and requirements outlined in Section IV of this Notice as a starting point for a plan and should present these deliverables in a way that creatively reflects the applicant's areas of expertise and knowledge of national service audiences. It is not appropriate to simply re-list the tasks stated in this Notice. As appropriate, the applicant should also include the following information for each proposed training and technical assistance activity, product, or event: Type of activity, number, frequency, audience, knowledge and skills learners will gain, estimated audience size, content, skill level, proposed needs assessment and continuous improvement strategies.

b. A detailed one-year work plan and timeline for completing all training and technical assistance activities. The work plan should include all deliverables and the tasks leading to them.

c. A plan for regularly evaluating performance and using findings for continuous improvement.

4. Training Course Outline and Description

A 75-100 word description for one face to face training course in the provider's content area. The face to face course should be considered part of either a basic two-day introductory level event for 75-100 new national service grantees or part of a two-day advanced level training event for 75-100 more experienced grantees. Applicants should assume that participants represent all streams of service.

Applicant should submit a session description that includes content level (see above) and desired learner outcomes. Applicant should also submit a detailed outline of session content and the activities that will lead to them.

5. Technology Strategy (Note: Not Applicable to AmeriCorps*VISTA National Integrated Training Program Applicants)

A one-page description of how applicant proposes to use technology, particularly e-learning, to effectively broaden the reach of training delivery. Description should include target audience (if not cross-stream), proposed use of technology, rationale for approach, course level, concepts and skills to be delivered, desired learner outcomes, and how outcomes will be achieved.

6. Description of Organizational Capacity

An organizational chart that clearly shows the place of the training and technical assistance provider in the parent organization's structure and resumes and a narrative of no more than three double-spaced, single-sided, typed pages in no smaller than 12-point font which describes:

a. The organization's capacity to provide training and technical assistance services nationwide, including descriptions of recent work similar to that being proposed.

b. The organization's knowledge of and experience with each national service program.

c. References that can be contacted related to that work.

d. List of proposed staff that includes each one's areas of expertise.(Note: Final list will be subject to Corporation approval.)

7. Budget

A detailed, line-item budget with costs organized by personnel, task and sub-task and related to the activities and deliverables outlined in the introductory narrative and work plan. Costs in proposed budgets must consist solely of costs allowable under applicable cost principles found in OMB Circulars.

Applicants should be mindful that a demonstrated commitment to providing services in the most cost-effective manner possible will be a major consideration in the evaluation of proposals. Provider match is not required. The budget should include:

a. Proposed staff and expert-consultant hours and pay rates by task and sub-task;

b. Types and quantities of other direct costs being proposed by task and subtask (for example, amounts of travel and volume of other task-related resources, such as communications, postage, etc.).

8. Budget Narrative

Provide a budget narrative that corresponds with all items in the line-item budget and that includes an explanation and cost basis for all cost estimates that appear in the line-item budget. The narrative should clearly show the following:

a. How each cost was derived, using equations to reflect all factors considered.

b. The anticipated unit cost (with derivation) of the various deliverables (such as training events, publications and technical assistance interventions).

B. Selection Criteria

To ensure fairness to all applicants, the Corporation reserves the right to take remedial action, up to and including disqualification, in the event a proposal fails to comply with the requirements relating to page limits, line spacing, and font size. The Corporation will assess applications based on the criteria listed below.

1. Quality (25%)

The Corporation will consider the quality of the proposed activities based on:

a. Evidence of the applicant's knowledge of the goals of the Corporation, the goals of the Corporation's program streams (see Section VI. “Glossary”), and the Corporation's training and technical assistance requirements and principles as outlined in this Notice and demonstrated by applicant's past experience and proposed approach.

b. Evidence of the applicant's knowledge of adult learning and experience in training adults; the audience appropriateness, strategic nature (i e., broad reaching and capacity building), effectiveness and creativity of the applicant's approach.

2. Organizational and Personnel Capacity (35%)

The Corporation will consider the organizational capacity of the applicant to deliver the proposed services based on:

a. Evidence of the organization's experience in delivering high-quality adult training and technical assistance in the category under consideration in a flexible, responsive, collaborative and creative manner; experience with or knowledge of national or community service as described by applicant; experience using technology as a teaching tool.

b. Evidence of experience providing training and technical assistance to adults in the appropriate training and technical assistance category on the part of the proposed staff and consultants as demonstrated by annotated staff lists or resumes.

c. Demonstrated ability to manage a federal grant or apply sound fiscal management principles to grants and cost accounting as evidenced by an annotated list of applicant's previous grants experience.

d. Demonstrated ability to provide training and technical assistance services nationwide (does not apply to multi-state training and technical assistance cooperatives) as evidenced by proposed technology plan, proposed staffing and previous levels of activity and experience.

3. Evaluation (15%)

The Corporation will consider how the applicant:

a. Proposes to assess the effectiveness and need for its services and products delivered under the award.

b. Plans to use assessments of its services and products to modify and improve subsequent services and products.

4. Budget (25%)

The Corporation will consider the budget based on:

a. Cost of each proposed training and technical assistance activity in relation to the scope and depth of the services proposed (i.e., the number of states, programs and individuals the proposed activities are intended to reach);

b. The clarity and thoroughness of the budget and budget narrative (see specifications under “Budget Narrative”).

VI. Glossary of Terms

Affinity Groups

Groups of programs defined by their common focus or needs.

Clusters

The Corporation's field offices are organized into five regions (“clusters”) as follows:

Atlantic

Connecticut, Delaware, Maine, Maryland, Massachusetts, New Hampshire, New Jersey, New York, Pennsylvania, Puerto Rico, Rhode Island, Vermont, Virgin Islands.

North Central

Illinois, Indiana, Iowa, Michigan, Minnesota, Nebraska, North Dakota, Ohio, South Dakota, Wisconsin.

Pacific

Alaska, American Samoa, California, Guam, Hawaii, Idaho, Mariannas, Montana, Nevada, Oregon, Utah, Washington, Wyoming.

South

Alabama, District of Columbia, Florida, Georgia, Kentucky, Mississippi, North Carolina, South Carolina, Tennessee, Virginia, West Virginia.

Southwest

Arizona, Arkansas, Colorado, Kansas, Louisiana, Missouri, New Mexico, Oklahoma, Texas.

Cluster-Based Training

Training events planned in conjunction with the Corporation's training and technical assistance officer and the commissions, state offices, state education agencies or Tribal, national direct and higher education grantees in a particular region.

Effective Practice(s)

The following definition is used to guide submissions of effective practice(s) to the Effective Practices Information Center (EpiCenter): An effective practices is an action or series of actions by a grantee, program staff, national service participant, or technical assistance provider that helps to solve an essential problem facing a national service program and the community it serves, leading to a successful outcome. Effective practices address issues shared by program staff or national service participants across local program or operating sites and can be replicated in or adapted to serve in more than one locale. Effective practices can be described and documented in terms of (1) the problem it solves; (2) the context in which it has been successful; (3) the level of outcome or impact it helped to achieve; and (4) evidence of success of the practice.

Effective Practices Information Center (EpiCenter)

EpiCenter is the Corporation's online database of effective program practices in national service. Its mission is to support practitioners in developing sustainable programs that lead to positive outcomes for beneficiaries, participants, institutions, and communities and to make this information widely accessible across the national service network. Providers are required to submit effective training and program practices to EpiCenter. The database can be visited at www.nationalservice.org/resources/epicenter.

Grantees

Entities funded directly by the Corporation. These include and are not limited to: state commissions; state education agencies; Tribes and U.S.Territories; national direct parent organizations; institutions, consortia and organizations of higher education; local governments; and non-profit organizations. Many grantees also subgrant a significant portion of their funds to others (e.g., a state commission conducts a competition and review process and funds AmeriCorps programs throughout a state; a state education agency (SEA) conducts a competition and review process and funds school systems throughout a state). Regulations do not allow the 1,300 Senior Corps grantees to subgrant.

Learn and Serve America National Service-Learning Clearinghouse

The Learn and Serve America National Service-Learning Clearinghouse is a collaborative effort among twelve national partner organizations to collect and disseminate information on service-learning for national service awardees and the general public engaged in service-learning. The Clearinghouse maintains and operates a web site and service-learning listservs, a library of print and media materials related to service-learning, and a toll-free information and referral service. Providers are required to submit copies of service-learning related training materials and training scripts to the Learn and Serve America National Service-Learning Clearinghouse.

Learn and Serve America Training and Technical Assistance Exchange

The Learn and Serve America Training and Technical Assistance supports service-learning programs in schools, institutions of higher education, and community organizations through peer-based training and technical assistance. The Exchange links programs with local peer mentors, refers programs to regional trainers, and informs programs of regional service-learning events and initiatives. When providing training and technical assistance to Learn and Serve America grantees or subgrantees, providers must coordinate with the Exchange.

National Service Resource Center (NSRC)

The National Service Resource Center (NSRC) serves as a repository of information on all aspects of national service. The NSRC manages most of the Corporation's listservs. Training and technical assistance publications are posted or distributed by the NSRC and its web site includes a calendar of training events and links to all current providers.

Parent Organization

The legal applicant for Corporation for National Service national direct funds; the organization responsible for the management and oversight of the national direct grant.

PDAT

Program Development Assistance and Training (PDAT) funds are awarded annually to state commissions to support training and technical assistance activities for their grantees and states.

Stream of Service

Refers to the Corporation's three programs: AmeriCorps, Learn and Serve America and National Senior Service Corps. Cross-stream activities, therefore, refer to activities conducted or attended by representatives from more than one program stream.

Subgrantees

Many Corporation awardees competitively award a significant portion of their funds to other entities known as subgrantees. State commissions, for example, subgrant to local non-profit organizations. Senior Corps programs do not subgrant (see “Grantees”).

Substream of Service

Refers to the categories within each of the above streams and includes the following:

AmeriCorps

AmeriCorps*State

AmeriCorps*National

AmeriCorps*Promise Fellows

AmeriCorps*VISTA

AmeriCorps*National Civilian Community Corps

Learn and Serve America

Learn and Serve America K-12 School-Based and Community-Based Programs

Learn and Serve America Higher Education Programs

National Senior Service Corps

Foster Grandparent Program

Retired and Senior Volunteer Program (RSVP)

Senior Companion Program

Training and Technical Assistance Listserv

Currently managed by the National Service Resource Center, the training and technical assistance listserv is one way providers share best practices with one another. Providers also share effective practices through the Effective Practices Information Center (EpiCenter) and the National Service-Learning Clearinghouse.

VII. Appendix

Training Objectives for the AmeriCorps*VISTA National Integrated Training Program for Field Supervisors, Trainees and Members

A. Objectives of the Field Supervisors' Training for Maximizing Program Impact, Recruitment, and Retention (At Least Three Months Prior to Member's PSO)

Field supervisors will:

• Understand Corporation and AmeriCorps*VISTA as they relate to national and community service.

• Design and manage clear, realistic outcome-based member assignments within the context of multi-year programs with sustainability impact goals.

• Articulate and administer the benefits, terms and conditions of AmeriCorps*VISTA service.

• Develop and implement an effective two-to-three week AmeriCorps*VISTA on-site orientation and training plan.

• Understand the Corporation web-based recruitment system and develop and implement an effective AmeriCorps*VISTA recruitment strategy including effective screening and selection.

• Provide quality member support to optimize member satisfaction and impact and to reduce attrition.

B. Objectives of the AmeriCorps*VISTA Trainee Pre-Service Orientation for Getting Started: Role Clarification, Expectations, and Inspiration (Immediately Prior to Swearing-In)

Trainees will:

• Identify with AmeriCorps*VISTA program and establish their relationship with VISTA and the Corporation state office.

• Develop a sense of pride and inspiration about AmeriCorps*VISTA, an appreciation for the VISTA legacy of service, a dedication and commitment to a year of immersion, sacrifice and service.

• Understand their role as an AmeriCorps*VISTA member and in their assignment and community, and their relationship to their project's ultimate goals and to their supervisor.

• Develop an understanding of the unique capacity building nature of their assignments, with clear and realistic expectations about the challenges they will confront and strategies for getting started.

• Understand the AmeriCorps*VISTA benefits, terms and conditions of service; complete enrollment documents; and take the Oath of Service.

C. Objectives of the AmeriCorps*VISTA Member Early Service Training for Impact and Retention (90 Days After PSO)

Members will:

• Develop strategies and problem solving skills for overcoming obstacles and challenges they are facing on-site.

• Appreciate and validate their accomplishments to-date and set new goals for remainder of service.

• Develop skills to add value to their role as agents of sustainability in their projects:

• E.g., resource mobilization; community volunteer recruitment and management, community mobilization.

• Develop plans for integrating new skills into their ongoing work.

• Renew sense of pride and inspiration, appreciation for the VISTA legacy service, dedication and commitment.

CFDA No. 94.009 Training and Technical Assistance

Dated: March 9, 2001.
David Rymph,
Acting Director, Department of Evaluation and Effective Practices, Corporation for National and Community Service.

[FR Doc. 01-6396 Filed 3-14-01; 8:45 am]

BILLING CODE 6050-$$-P